DEPARTMENT OF THE INTERIOR

Fish and Wildlife Service

Notice of Intent To Prepare an Environmental Assessment

AGENCY: Fish And Wildlife Service, Department of the Interior.

ACTION: Notice of intent to prepare an Environmental Assessment under the National Environmental Policy Act and Notice of Public Meeting on Tidal Marsh Restoration Planning at Cullinan Ranch, San Pablo Bay National Wildlife Refuge, Solano and Napa Counties, California.

SUMMARY: In accordance with National Environmental Policy Act of 1969, as amended (NEPA) regulations (40 CFR 1501.7), this notice advises other agencies, Tribes, and the public that the U.S. Fish and Wildlife Service (Service) intends to gather information necessary to prepare environmental documentation on a proposed tidal marsh restoration project at Cullinan Ranch, a unit of the San Pablo Bay National Wildlife Refuge (Refuge), Solano and Napa Counties, California. Interested persons are encouraged to submit written comments and/or attend a public scoping meeting to identify and discuss issues and alternatives that should be addressed. The Service intends to prepare an Environmental Assessment for this project. However, if the Service determines that the project would result in significant impacts, the Service will prepare an Environmental Impact Statement. The purpose of the scoping meeting is to describe restoration alternatives, identify the scope of issues that need to be addressed, and discuss important issues related to tidal marsh restoration at Cullinan Ranch.

DATES: A public scoping meeting will be held on August 7, 2002, from 7 p.m. to 9 p.m., see addresses for location. Written comments related to the scope and content of environmental documentation should be received by the Service at the Newark address below by August 14, 2002.

ADDRESSES: The public meeting will be held at the Mare Island Elementary School, 9th and Tisdale Streets, Vallejo, CA 94591. Written comments may also be mailed to Margaret T. Kolar, Refuge Complex Manager, San Francisco Bay National Wildlife Refuge Complex, PO Box 524, Newark, California 94560.

FOR FURTHER INFORMATION CONTACT: Mike Parker, Deputy Project Leader, San Francisco Bay NWR Complex, (510) 792-0222.

SUPPLEMENTARY INFORMATION: The Cullinan Ranch restoration project would restore approximately 1,500 acres of diked baylands back to historic tidal conditions by reintroducing tidal flow into the project area. This area, Cullinan Ranch, also known as the Napa Marsh Unit of the San Pablo Bay National Wildlife Refuge (Refuge), is located in an area of the Napa River Delta that was historically defined by a network of meandering sloughs and extensive estuarine tidal marshes. Reintroduction of tidal flow will restore vital salt marsh habitat for endangered species, including the salt marsh harvest mouse (Reithrodontomys raviventris) and the California clapper rail (Rallus longirostris obsoletus), as well as provide roosting and foraging habitat for migratory waterbirds.

The proposed restoration is based on the concept that reintroducing tidal waters will naturally develop salt-water marsh habitat conditions. The existing perimeter levee currently prevents tidal flows into the area and as a result, the land has subsided several feet in elevation and becomes inundated with freshwater during the rainy season. Once restored, twice-daily tidal flows would carry and deposit sediment, establishing marsh plain elevations sufficient to support tidal marsh vegetation. As tidal waters enter and exit the site, tidal channels would develop. Continued tidal action would maintain an active exchange of water, sediment and nutrients between the marsh habitat and the Bay, further enhancing the value of the habitat for plants and wildlife.

In keeping with one of the purposes of the Refuge “* * * to conserve fish, wildlife, or plants which are listed as endangered species or threatened species,” the Cullinan Ranch restoration project would restore historic salt marsh habitat for the benefit of threatened and endangered species as well as many other estuarine-dependent species.

Location

Located within the Refuge, the Cullinan Ranch is bordered by the South and Dutchman Sloughs to the north and State Route 37 to the south. California Department of Fish and Game Pond 1 borders Cullinan Ranch to the west. Guadalcanal Village Wetlands (Guadalcanal), which is owned by the State of California and is currently being restored to tidal marsh, borders Cullinan Ranch to the east.

Project Components

Specific components of Cullinan Ranch tidal marsh restoration follow.

1. Blocking drainage ditches with earthen fill to promote redevelopment of the historical sloughs on the project site.

2. Reinforcing two Pacific Gas & Electric transmission tower footings to protect them from possible damage from tidal flows when the levee is breached.

3. Constructing and reinforcing an existing levee adjacent to State Route 37 and California Department of Fish and Game (CDFG) Pond 1, to protect these areas from flooding and erosion during high water conditions.

4. Breaching the northern levee adjacent to South and Dutchman sloughs to introduce historic tidal flow to the site.

5. Long-term monitoring of wildlife, plants, hydrology, and geomorphology.

Public Meetings

With the publication of this notice, the public is encouraged to attend public meetings and submit written comments for consideration in developing design alternatives for restoration at Cullinan Ranch. Format for the public meeting will be a presentation on proposed design alternatives followed by a workshop to gather public comments. Comments received shall be used to identify issues and draft preliminary alternatives.

Dated: July 8, 2002.
D. Kenneth McDermond,
Acting Manager, California/Nevada Operations, Sacramento, California.

[FR Doc. 02-17603 Filed 7-12-02; 8:45 am]

BILLING CODE 4310-55-P